NATIONAL AERONAUTICS AND SPACE ADMINISTRATION

[Notice 04-031]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council (NAC).

DATES: Tuesday, March 9, 2004, 8 a.m. to 3:30 p.m; and Wednesday, March 10, 2004, 8 a.m. to 3 p.m.

ADDRESSES: George C. Marshall Space Flight Center, National Aeronautics and Space Administration, Building 4200, Conference Room P110, Marshall Space Flight Center, AL 35812-0001.

FOR FURTHER INFORMATION CONTACT: Ms. Kathy Dakon, National Aeronautics and Space Administration, Washington, DC 20546, 202-358-0732.

SUPPLEMENTARY INFORMATION: The meeting will be open to the public up to the seating capacity of the room. The agenda for the meeting is as follows:

• The Vision for Space Exploration and FY 05 Budget Request;

• NASA Office of Exploration Systems;

• Update on Return to Flight;

• Information Technology Working Group Activities.

To expedite attendance to the NASA Advisory Council Meeting, attendees must submit their full name, company affiliation (if any), citizenship, place of birth, and date of birth to NASA Marshall Space Flight Center's Protective Services Department by March 4, 2004. If above information has not been provided in advance, attendees should expect a minimum delay of two hours. Persons attending must state upon entrance to Redstone Arsenal (via Gate 9, Rideout Road/Research Park Blvd) that they are attending the NASA Advisory Council meeting. At which time, the driver will be asked to provide a valid driver's license, vehicle registration and proof of insurance; and each vehicle occupants will be required to provide a valid picture identification. Directions and passes will be provided upon entrance. Submit information via fax to 256-544-2101 or please contact the Protective Services Department at 256-544-4310 for further information.

It is imperative that the meeting be held on these dates to accommodate the scheduling priorities of the key participants. Visitors will be requested to sign a visitor's register.

Michael F. O'Brien,
Assistant Administrator for External Relations, National Aeronautics and Space Administration.

[FR Doc. 04-4303 Filed 2-25-04; 8:45 am]

BILLING CODE 7510-01-P